DEPARTMENT OF HEALTH AND HUMAN SERVICES

Administration for Children and Families

Proposed Information Collection Activity; Financing for Early Care and Education: Quality and Access for All (New Collection)

AGENCY: Office of Planning, Research, and Evaluation, Administration for Children and Families, United States Department of Health and Human Services.

ACTION: Request for public comments.

SUMMARY: The Administration for Children and Families (ACF) at the U.S. Department of Health and Human Services seeks approval to collect information to explore the role of Head Start in the early care and education (ECE) financing landscape, as well as how the use of multiple funding sources within a single Head Start program may be associated with the provision of Head Start's comprehensive services and with state-level differences in ECE funding. Survey data will be collected from Head Start program directors and state government administrators.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The proposed data collection seeks to better understand Head Start's participation in or use of coordinated funding, defined as the piecing together or combining of multiple funding sources. The data collection effort will consist of two surveys: (1) a census survey of Head Start program directors (of any grant recipient with a Head Start grant, Early Head Start grant, or both, or one of their delegate programs), and (2) a census survey of three state government administrative positions in each of the 50 states and Washington, DC (the Head Start Collaboration Office Director, the administrator of state pre-kindergarten funds, and the administrator of the federal Child Care and Development Fund [CCDF]). The surveys will identify the most common approaches to coordinated funding; examine how these approaches relate to the provision of high-quality, comprehensive ECE services in Head Start programs; understand policy levers and conditions that influence Head Start programs' decisions around and ability to coordinate funding; and document how participation in coordinated funding relates to Head Start's engagement with other ECE programs and system efforts. The resulting insights will inform ACF about the prevalence of coordinated funding in Head Start, facilitators and challenges of coordinated funding for Head Start programs, and potential associations with program quality. They will also inform future case studies.

Respondents: Head Start Program Directors, state-based Head Start Collaboration Office Directors, state administrators of state pre-kindergarten funds, and state-based administrators of federal CCDF.

Annual Burden Estimates
Instrument | Number of respondents (total over request period) | Number of responses per respondent (total over request period) | Average burden per response (in hours) | Total/annual burden (in hours)
Program Director Survey (Head Start Program Directors or financial administrators) | 1,642 | 1 | .83 | 1,363
ECE State Administrator Survey (State-based Head Start Collaboration Office Directors, administrators of state pre-kindergarten funds, state-based administrators of federal CCDF) | 138 | 1 | .60 | 83

Estimated Total Annual Burden Hours: 1,446.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9835; 42 U.S.C. 9844.

Mary B. Jones,
ACF/OPRE Certifying Officer.

[FR Doc. 2023-19722 Filed 9-12-23; 8:45 am]

BILLING CODE 4184-22-P